DEPARTMENT OF TRANSPORTATION

Federal Aviation Administration

14 CFR Part 39

[Docket No. 2002-NE-37-AD]

RIN 2120-AA64

Airworthiness Directives; Rolls-Royce Deutschland Ltd. & Co KG, Model Tay 611-8, 620-15, 650-15, and 651-54 Turbofan Engines

AGENCY: Federal Aviation Administration (FAA), DOT.

ACTION: Notice of proposed rulemaking (NPRM).

SUMMARY: The FAA proposes to supersede an existing airworthiness directive (AD) for Rolls-Royce Deutschland Ltd. & Co KG (RRD) (formerly Rolls-Royce plc) Model Tay 611-8, 620-15, 650-15, and 651-54 turbofan engines, with low pressure (LP) fuel tube, part number (P/N) JR33021A, installed. That AD currently requires initial and repetitive inspections of the LP fuel tubes. This proposed AD would require the same inspections and adds a requirement to replace the fuel tube with a new design tube, as mandatory terminating action to the repetitive inspections. This proposed AD results from the manufacturer introducing a new design fuel tube, which eliminates the unsafe condition. We are proposing this AD to prevent a dual-engine flameout due to fuel exhaustion, which could lead to forced landing and possible damage to the airplane.

DATES: We must receive any comments on this proposed AD by August 9, 2004.

ADDRESSES: Use one of the following addresses to submit comments on this proposed AD:

• By mail: Federal Aviation Administration (FAA), New England Region, Office of the Regional Counsel, Attention: Rules Docket No. 2002-NE-37-AD, 12 New England Executive Park, Burlington, MA 01803-5299.

• By fax: (781) 238-7055.

• By e-mail: 9-ane-adcomment@faa.gov

You can get the service information identified in this proposed AD from Rolls-Royce Deutschland Ltd. & Co KG, Eschenweg 11, D-15827 DAHLEWITZ, Germany; telephone 49 (0) 33-7086-1768; fax 49 (0) 33-7086-3356.

You may examine the AD docket at the FAA, New England Region, Office of the Regional Counsel, 12 New England Executive Park, Burlington, MA.

FOR FURTHER INFORMATION CONTACT: Jason Yang, Aerospace Engineer, Engine Certification Office, FAA, Engine and Propeller Directorate, 12 New England Executive Park, Burlington, MA 01803-5299; telephone 781-238-7747; fax 781-238-7199.

SUPPLEMENTARY INFORMATION:

Comments Invited

We invite you to submit any written relevant data, views, or arguments regarding this proposal. Send your comments to an address listed under ADDRESSES. Include “AD Docket No. 2002-NE-37-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us verbally, and that contact relates to a substantive part of this proposed AD, we will summarize the contact and place the summary in the docket. We will consider all comments received by the closing date and may amend the proposed AD in light of those comments.

We are reviewing the writing style we currently use in regulatory documents. We are interested in your comments on whether the style of this document is clear, and your suggestions to improve the clarity of our communications that affect you. You may get more information about plain language at http://www.faa.gov/language and http://www.plainlanguage.gov.

Examining the AD Docket

You may examine the AD Docket (including any comments and service information), by appointment, between 8:00 a.m. and 4:30 p.m., Monday through Friday, except Federal holidays. See ADDRESSES for the location.

Discussion

On March 4, 2003, the FAA issued AD 2003-05-04, Amendment 39-13080 (68 FR 11467, March 11, 2003). That AD requires:

• An initial inspection of LP fuel tube, P/N JR33021A, for fretting before further flight for Tay 620-15 and 650-15 turbofan engines.

• An initial inspection of LP fuel tube, P/N JR33021A, for fretting within 300 hours time-in-service (TIS) or one month after the effective date of this AD, whichever occurs first for Tay 611-8 and 651-54 turbofan engines.

• Repetitive inspections for fretting of the LP fuel tube at intervals not to exceed 2,000 hours TIS since the last inspection.

The Luftfhart Bundesamt (LBA), which is the airworthiness authority for Germany, notified the FAA that a leak from the LP fuel tube, P/N JR33021A, which connects the LP fuel flowmeter to the high pressure (HP) fuel pump, resulted in complete fuel exhaustion and subsequent dual engine flameout.

After AD 2003-05-04 Was Issued

After AD 2003-05-4 was issued, RRD introduced a new design fuel tube that has improved routing and an improved mounting flange at the HP fuel pump end of the tube. Installation of this fuel tube is considered terminating action to the repetitive inspections of the fuel tube, and eliminates the unsafe condition.

Relevant Service Information

We have reviewed and approved the technical contents of the following RRD service bulletins (SBs):

• SB TAY-73-1593, dated April 23, 2003, that specifies procedures for inspecting the LP fuel tube, P/N JR33021A, for fretting on Tay 620-15 and 650-15 turbofan engines.

• SB TAY-73-1553, Revision 2, dated April 23, 2003, that specifies procedures for inspecting the LP fuel tube, P/N JR33021A, for fretting on Tay 611-8 and 651-54 turbofan engines.

• SB TAY 73-1592, dated April 30, 2003, that specifies procedures for replacing fuel tubes on Tay 620-15, Tay 650-15, Tay 611-8, and Tay 651-54 turbofan engines, with a new design fuel tube.

The LBA classified these service bulletins as mandatory and issued AD No. 2002-358/5, dated November 18, 2003, in order to ensure the airworthiness of these engines in Germany.

Bilateral Agreement Information

These engine models are type certificated in Germany, and are type certificated for operation in the United States under the provisions of Section 21.29 of the Federal Aviation Regulations (14 CFR 21.29) and the applicable bilateral airworthiness agreement. In keeping with this bilateral airworthiness agreement, the LBA has kept the FAA informed of the situation described above. We have examined the findings of the LBA, reviewed all available information, and determined that AD action is necessary for products of this type design that are certificated for operation in the United States.

FAA's Determination and Requirements of the Proposed AD

We have evaluated all pertinent information and identified an unsafe condition that is likely to exist or develop on other products of this same type design, and we are proposing this AD. Since the effective date of AD 2003-05-04 was March 26, 2003, and all Tay 611-8, 620-15, 650-15, and 651-54 engines should have completed the initial inspection, this AD would require:

• An initial inspection of the LP fuel tube for fretting before further flight.

• Repetitive inspections for fretting of the LP fuel tube, within 2,000 hours TIS after the last inspection.

• As mandatory terminating action to the repetitive inspections, replacement of fuel tubes with fewer than 4,000 hours TIS on the effective date of the proposed AD, with a new design fuel tube, within 10 additional cycles-in-service or before reaching 4,000 hours TIS, whichever occurs later.

• As mandatory terminating action to the repetitive inspections, replacement of fuel tubes with 4,000 hours or more TIS on the effective date of the proposed AD, with a new design fuel tube before June 30, 2005.

The proposed AD would require that you do the inspections using the service information described previously.

Costs of Compliance

There are about 1,300 RRD Model Tay 611-8, 620-15, 650-15, and 651-54 turbofan engines of the affected design in the worldwide fleet. We estimate that 1,206 engines installed on airplanes of U.S. registry would be affected by this proposed AD. We also estimate that it would take about two work hours per engine to perform the proposed tube inspection, and two work hours per engine to perform the proposed tube replacement. The average labor rate is $65 per work hour. Required parts would cost about $1,300 per engine. Based on these figures, we estimate the total cost of the proposed AD to U.S. operators to be $1,720,000.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 2002-NE-37-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13080 (68 FR 11467, March 11, 2003) and by adding a new airworthiness directive, to read as follows:

Rolls-Royce Deutschland Ltd. & Co KG: Docket No. 2002-NE-37-AD. Supersedes AD 2003-05-04, Amendment 39-13080.

Comments Due Date

(a) The Federal Aviation Administration (FAA) must receive comments on this airworthiness directive (AD) action by August 9, 2004.

Affected ADs

(b) This AD supersedes AD 2003-05-04, Amendment 39-13080.

Applicability

(c) This AD applies to Rolls-Royce Deutschland Ltd. & Co KG (RRD) (formerly Rolls-Royce plc) Model Tay 611-8, 620-15, 650-15, and 651-54 turbofan engines, with low pressure (LP) fuel tube, part number (P/N) JR33021A, installed. These engines are installed on, but not limited to, Fokker F.28 Mark 0100 airplanes, Supplemental Type Certificate No. SA842SW, Boeing 727 airplanes, and Gulfstream G-IV airplanes.

Unsafe Condition

(d) This AD results from the manufacturer introducing a new design LP fuel tube which eliminates the unsafe condition. The actions specified in this AD are intended to prevent a dual-engine flameout due to fuel exhaustion which could lead to forced landing and possible damage to the airplane.

Compliance

(e) You are responsible for having the actions required by this AD performed within the compliance times specified unless the actions have already been done.

Initial Inspection

(f) Before further flight, for Tay 611-8 and 651-54 turbofan engines with Part 4 of RRD service bulletin (SB) TAY-73-1194 incorporated, inspect the LP fuel tube for fretting, and replace as necessary. Use 3.C.1. through 3.C.13. of the Accomplishment Instructions of RRD Service Bulletin (SB) No. TAY-73-1553, Revision 2, dated April 23, 2003.

(g) Before further flight, for Tay 620-15 and 650-15 turbofan engines, inspect the LP fuel tube for fretting, and replace as necessary. Use 3.C.1. through 3.C.13. of the Accomplishment Instructions of RRD SB No. TAY-73-1593, dated April 23, 2003.

Repetitive Inspections

(h) Thereafter, inspect the LP fuel tube for fretting, at intervals not to exceed 2,000 hours time-in-service (TIS) since the last inspection, and replace as necessary. Use 3.C.1. through 3.C.13. of the Accomplishment Instructions of RRD SBs referenced in paragraphs (f) and (g) of this AD.

Mandatory Terminating Action

(i) As mandatory terminating action to the repetitive inspections required by this AD, replace fuel tube, P/N JR33021, with a fuel tube P/N that is not listed in this AD. Information on fuel tube replacement can be found in RRD SB No. TAY-73-1592, dated April 30, 2003. Use the following compliance times:

(1) For fuel tubes with fewer than 4,000 hours TIS on the effective date of this AD, replace fuel tube within 10 additional cycles-in-service or before reaching 4,000 hours TIS, whichever occurs later.

(2) For fuel tubes with 4,000 or more hours TIS on the effective date of this AD, replace fuel tube before June 30, 2005.

Alternative Methods of Compliance

(j) The Manager, Engine Certification Office, has the authority to approve alternative methods of compliance for this AD, if requested using the procedures found in 14 CFR 39.19.

Material Incorporated by Reference

(k) None.

Related Information

(1) Luftfhart Bundesamt airworthiness directive No. 2002-358/5, dated November 18, 2003, and Rolls-Royce Deutschland Ltd. & Co KG SB No. TAY-73-1592, dated April 30, 2003 also address the subject of this AD.

Issued in Burlington, Massachusetts, on June 1, 2004.
Jay J. Pardee,
Manager, Engine and Propeller Directorate, Aircraft Certification Service.

[FR Doc. 04-12958 Filed 6-8-04; 8:45 am]

BILLING CODE 4910-13-P